DEPARTMENT OF COMMERCE

National Oceanic and Atmospheric Administration

[I.D. 121100C]

Marine Mammals; File No. 995-1608

AGENCY: National Marine Fisheries Service (NMFS), National Oceanic and Atmospheric Administration (NOAA), Commerce.

ACTION: Receipt of application.

SUMMARY: Notice is hereby given that Thomas Norris, SAIC, 3990 Old Town Avenue Suite 105A, San Diego, California 92110, has applied in due form for a permit to take mysticete whales (blue whale, Balaenoptera musculus; fin whale, Balaenoptera physalus; Bryde's whale, Balaenoptera edeni; minke whale, Balaenoptera acutorostrata; humpback whale, Megaptera novaeangliae; gray whale, Eschrichtius robustus) for purposes of scientific research.

DATES: Written or telefaxed comments must be received on or before January 22, 2001.

ADDRESSES: The application and related documents are available for review upon written request or by appointment in the following office(s):

Permits and Documentation Division, Office of Protected Resources, NMFS, 1315 East-West Highway, Room 13130, Silver Spring, MD 20910 (301/713-2289);

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

FOR FURTHER INFORMATION CONTACT: Jill Lewandowski or Simona Roberts, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226).

The applicant proposes to tag and photograph for identification purposes mysticete whales (blue whale, Balaenoptera musculus; fin whale, Balaenoptera physalus; Bryde's whale, Balaenoptera edeni; minke whale, Balaenoptera acutorostrata; humpback whale, Megaptera novaeangliae; gray whale, Eschrichtius robustus) using Satellite-Linked ARGOS Transmitters (Sat-LAT) and a new Acoustic/Radio Tracking and data-Telemetry (ARTT) system. The ARTT system logs and acoustically telemeters underwater positions and environmental data to a tracking vessel where GPS integrated updates of animal positions and track histories are displayed with a PC. The Sat-LAT system will provide large scale, long-term information on the movement patterns of tagged whales, whereas the ARTT system will provide fine scale, short-term information for examining behavioral responses of mysticete whales to natural and anthropogenic environmental stimuli. Both methods will provide data necessary to identify critical whale habitat, its variability in space and time, and the effects of anthropogenic activities (e.g. noise) relative to these habitat requirements.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: December 15, 2000.
Ann D. Terbush,
Chief, Permits and Documentation Division, Office of Protected Resources, National Marine Fisheries Service.

[FR Doc. 00-32473 Filed 12-20-00; 8:45 am]

BILLING CODE: 3510-22-S